DEPARTMENT OF HOUSING AND URBAN DEVELOPMENT

[Docket No. FR-5281-N-34]

Notice of Submission of Proposed Information Collection to OMB; Emergency Comment Request Homelessness Prevention and Rapid Re-Housing Program (HPRP)

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 15, 2009.

ADDRESSES: Interested persons are invited to submit comments regarding this proposal. Comments must be received within seven (7) days from the date of this Notice. Comments should refer to the proposal by name and/or OMB approval number and should be sent to: Ms. Kimberly P. Nelson, HUD Desk Officer, Office of Management and Budget, New Executive Office Building, Washington, DC 20502; e-mail: Kimberly_P._Nelson@omb.eop.gov; fax: (202) 395-6974.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents should be submitted to OMB and may be obtained from Ms. Deitzer.

SUPPLEMENTARY INFORMATION: This Notice informs the public that the U.S. Department of Housing and Urban Development (HUD) has submitted to OMB, for emergency processing, a proposed information collection for the Homelessness Prevention Fund, which is authorized under the American Recovery and Reinvestment Act (Recovery Act) of 2009, and is hereafter called the Homelessness Prevention and Rapid Re-housing Program (HPRP). Title XII of Division A of the Recovery Act appropriated $1.5 billion for this program. These funds will be distributed to 360 grantees that received Emergency Shelter Grants Program (ESG) funding in Fiscal Year (FY) 2009 as well as 180 metropolitan cities and urban counties that did not qualify for an ESG allocation in FY09. HUD will administer these funds as the Homelessness Prevention and Rapid Re-housing Program (HPRP) and will require a substantial amendment to the grantee's 2008 annual action plan as a condition of receiving funds. The formulas for the allocation of HPRP are the same as the formulas used for the annual allocation of ESG funds to the States, urban counties, metropolitan cities, and insular areas, except that the minimum allocation was reduced. On March 19, 2009, HUD published the HPRP Notice, including the list of HPRP allocations. This Notice may be found at http://www.hud.gov/recovery/hrp-notice.pdf.

In addition, section 1512 of the Recovery Act requires that not later than 10 days after the end of each calendar quarter, each recipient that received recovery funds from a Federal agency shall submit a report to that agency that contains: (1) The total amount of recovery funds received from that agency; (2) the amount of recovery funds received that were expended or obligated to projects or activities; and (3) a detailed list of all projects or activities for which recovery funds were expended or obligated, including the name of the project or activity; a description of the project or activity; an evaluation of the completion status of the project or activity; an estimate of the number of jobs created and the number of jobs retained by the project or activity; and for infrastructure investments made by State and local governments, the purpose, total cost, and rationale of the agency for funding the infrastructure investment with funds made available under the Recovery Act and name of the person to contact at the agency if there are concerns with the infrastructure investment. Not later than 30 calendar days after the end of each calendar quarter, each agency that made Recovery Act funds available to any recipient shall make the information in reports submitted publicly available by posting the information on a Web site.

This Notice also lists the following information:

Title of Proposal: Homelessness Prevention and Rapid Re-housing Program (HPRP).

Description of Information Collection: This is a new information collection. The Department of Housing and Urban Development is seeking emergency review of the Paperwork Reduction Act Requirements associated with the Homelessness Prevention and Rapid Re-housing Program.

OMB Control Number: Pending.

Agency Form Numbers: None.

Members of the Affected Public: Eligible HPRP grantees.

Estimation of the total numbers of hours needed to prepare the information collection including number of responses, frequency of responses, and hours of responses: An estimation of the total number of reporting hours is 210 per grantee. The number of grantees is 540. The total hours requested for the preparation of the Quarterly Reports is 113,652. The number of hours requested for both document preparation and reporting is 114,624.

Authority: The Paperwork Reduction Act of 1995, 44 U.S.C. Chapter 35, as amended.

Dated: May 1, 2009.
Stephen A. Hill,
Acting Director Policy and E-GOV.

[FR Doc. E9-10702 Filed 5-7-09; 8:45 am]

BILLING CODE 4210-67-P